DEPARTMENT OF TRANSPORTATION

Federal Aviation Administration

14 CFR Part 39

[Docket No. FAA-2006-24199; Directorate Identifier 2006-NM-025-AD]

RIN 2120-AA64

Airworthiness Directives; Airbus Model A318, A319, A320, and A321 Airplanes

AGENCY: Federal Aviation Administration (FAA), Department of Transportation (DOT).

ACTION: Notice of proposed rulemaking (NPRM).

SUMMARY: The FAA proposes to adopt a new airworthiness directive (AD) for certain Airbus Model A318, A319, A320, and A321 airplanes. This proposed AD would require revising the Limitations section of the airplane flight manual (AFM); performing a one-time hardness test of certain ribs of the left- and right-hand engine pylons, as applicable, which would terminate the AFM limitations; and performing related corrective actions if necessary. This proposed AD results from a report that certain stainless steel ribs installed in the engine pylon may not have been heat-treated during manufacture, which could result in significantly reduced structural integrity of the pylon. We are proposing this AD to detect and correct reduced structural integrity of the engine pylon, which could lead to separation of the engine from the airplane.

DATES: We must receive comments on this proposed AD by April 26, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, Room PL-401, Washington, DC 20590.

• Fax: (202) 493-2251.

• Hand Delivery: Room PL-401 on the plaza level of the Nassif Building, 400 Seventh Street SW., Washington, DC, between 9 a.m. and 5 p.m., Monday through Friday, except Federal holidays.

Contact Airbus, 1 Rond Point Maurice Bellonte, 31707 Blagnac Cedex, France, for service information identified in this AD.

FOR FURTHER INFORMATION CONTACT: Tim Dulin, Aerospace Engineer, International Branch, ANM-116, Transport Airplane Directorate, FAA, 1601 Lind Avenue, SW., Renton, Washington 98055-4056; telephone (425) 227-2141; fax (425) 227-1149.

SUPPLEMENTARY INFORMATION:

Comments Invited

We invite you to submit any relevant written data, views, or arguments regarding this proposed AD. Send your comments to an address listed in the ADDRESSES section. Include the docket number “FAA-2006-24199; Directorate Identifier 2006-NM-025-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The Direction Générale de l'Aviation Civile (DGAC), which is the airworthiness authority for France, notified us that an unsafe condition may exist on certain Airbus Model A318, A319, A320, and A321 airplanes. The DGAC advises that certain stainless steel ribs of the engine pylon may not have been heat-treated during manufacture, which could result in significantly reduced structural integrity of those ribs. This condition, if not corrected, could result in reduced structural integrity of the engine pylon, which could lead to separation of the engine from the airplane.

Relevant Service Information

Airbus has issued All Operators Telex (AOT) A320-54A1015, dated December 14, 2005. The AOT describes procedures for performing a one-time inspection (hardness test) to determine the hardness of stainless steel ribs 7, 8, and 9 of the left- and right-hand engine pylons; and performing corrective actions if necessary. The corrective actions include installing reinforcing components on ribs 8 and 9, as applicable. Accomplishing the actions specified in the service information is intended to adequately address the unsafe condition.

The AOT refers to Airbus Repair Instruction 546 12081, Issue B, dated January 3, 2006, as an additional source of service information for accomplishing the instructions of the AOT.

The DGAC mandated the service information and issued French airworthiness directive F-2006-011 R1, dated January 18, 2006, to ensure the continued airworthiness of these airplanes in France.

French airworthiness directive F-2006-011 R1 also specifies strict adherence to reduced speed limitations for flight in severe turbulence, as described in Airbus A318/319/320/321 Airplane Flight Manual (AFM) 4.03.00 P 03.

FAA's Determination and Requirements of This AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for products of this type design that are certificated for operation in the United States.

Therefore, we are proposing this AD, which would require revising the Limitations section of the AFM to require strict adherence to reduced speed limitations for flight in severe turbulence and accomplishing the actions specified in the AOT described previously, except as discussed under “Differences Between French Airworthiness Directive, Service Information, and This AD.” The proposed AD would also require sending the inspection results to Airbus.

Differences Between French Airworthiness Directive, Service Information, and This AD

French airworthiness directive F-2006-011 R1 requires, as of the effective date of that AD, that flightcrews strictly adhere to the requirement for operating at reduced speed in case of flight in severe turbulence, as specified in AFM 4.03.00 P03. This AD requires revising the Limitations section of the AFM to include this provision. To prevent immediate grounding of any airplane, this proposed AD would require revising the limitations of the AFM within 10 days after the effective date of this proposed AD to include this requirement of strict adherence to reduced speeds.

AOT A320-54A1015 specifies hardness testing of ribs 7, 8, and 9. However, the AOT states that rib 7 is able to sustain certification loads even if not heat-treated and no corrective action is available for rib 7. Since rib 7 does not contribute to the unsafe condition, this proposed AD would not require testing of rib 7.

Although the AOT and French airworthiness directive refer to an “inspection” of the spar box ribs, for clarity's sake, this proposed AD would refer to a “hardness test” as described in related Airbus Repair Instruction 546 12081, Issue B.

Operators should note that, although the AOT and French airworthiness directive describe procedures for submitting certain findings to the manufacturer, this proposed AD would not require those actions.

Costs of Compliance

This proposed AD would affect about 112 airplanes of U.S. registry. The proposed hardness test would take about 1 work hour per airplane, at an average labor rate of $65 per work hour. Based on these figures, the estimated cost of the proposed AD for U.S. operators is $7,280, or $65 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the National Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Airbus: Docket No. FAA-2006-24199; Directorate Identifier 2006-NM-025-AD.

Comments Due Date

(a) The FAA must receive comments on this AD action by April 26, 2006.

Affected ADs

(b) None.

Applicability

(c) This AD applies to Airbus Model A318, A319, A320, and A321 airplanes, certificated in any category; having a manufacturer serial number as identified in Airbus All Operators Telex (AOT) A320-54A1015, dated December 14, 2005 (referred to after this paragraph as “the AOT”).

Unsafe Condition

(d) This AD results from a report that certain stainless steel ribs installed in the engine pylon may not have been heat-treated during manufacture, which could result in significantly reduced structural integrity of the pylon. We are issuing this AD to detect and correct reduced structural integrity of the engine pylon, which could lead to separation of the engine from the airplane.

Compliance

(e) You are responsible for having the actions required by this AD performed within the compliance times specified, unless the actions have already been done.

Revise Limitations

(f) Within 10 days after the effective date of this AD, revise the Limitations section of Airbus A318/319/320/321 Airplane Flight Manual (AFM) to include the following statement. This may be done by inserting a copy of this AD into the AFM.

• “In case of flight in severe turbulence, strictly adhere to reduced speeds as defined in Aircraft Flight Manual 4.03.00 P 03.”

Note 1: When a statement identical to that specified in paragraph (f) of this AD has been included in the general revisions of the AFM, and the general revisions have been inserted into the AFM, the copy of this AD may be removed from the Limitations section of the AFM unless it has already been removed as specified in paragraph (g) or (h) of this AD.

Hardness Test

(g) Within the compliance time specified in paragraph (g)(1) or (g)(2) of this AD, as applicable, or before further flight after a hard or overweight landing, whichever occurs first: Perform a one-time hardness test to determine the hardness of ribs 8 and 9 of the left- and right-hand engine pylons, in accordance with the instructions of the AOT. If no discrepant rib is found installed on the airplane, the statement specified in paragraph (f) of this AD may be removed from the Limitations section of the AFM.

(1) For airplanes equipped with CFM engines: Within 6 months after the effective date of this AD.

(2) For airplanes equipped with IAE engines: Within 9 months after the effective date of this AD.

Note 2: Airbus AOT A320-54A1015, dated December 14, 2005, refers to Airbus Repair Instruction 546 12081, Issue B, dated January 3, 2006, as an additional source of service information for accomplishing the actions specified by the AOT.

Corrective Actions

(h) Within the compliance time specified in paragraph (h)(1) or (h)(2) of this AD, as applicable: Perform applicable corrective actions in accordance with the instructions of the AOT. When corrective actions have been applied to any discrepant rib found on the airplane, the statement specified in paragraph (f) of this AD may be removed from the Limitations section of the AFM.

(1) For airplanes equipped with CFM engines: Within 14 days after accomplishing the hardness test required by paragraph (g) of this AD.

(2) For airplanes equipped with IAE engines: Within 28 days after accomplishing the hardness test required by paragraph (g) of this AD.

No Reporting Requirement

(i) Although the service bulletin referenced in this AD specifies to submit certain information to the manufacturer, this AD does not include that requirement.

Alternative Methods of Compliance (AMOCs)

(j)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(k) French airworthiness directive F-2006-011 R1, dated January 18, 2006, also addresses the subject of this AD.

Issued in Renton, Washington, on March 13, 2006.
Ali Bahrami,
Manager, Transport Airplane Directorate, Aircraft Certification Service.

[FR Doc. E6-4409 Filed 3-24-06; 8:45 am]

BILLING CODE 4910-13-P